DEPARTMENT OF THE INTERIOR

Fish and Wildlife Service

[FWS-R3-R-2008-N0295; 30136-1265-0000-S3]

Leopold and St. Croix Wetland Management Districts, Wisconsin

AGENCY: Fish and Wildlife Service, Interior.

ACTION: Notice of availability; final comprehensive conservation plan and finding of no significant impact for environmental assessment.

SUMMARY: We, the U.S. Fish and Wildlife Service (Service), announce the availability of final comprehensive conservation plans (CCP) and finding of no significant impact (FONSI) for the Leopold and St. Croix Wetland Management Districts (WMD). In the CCP, we describe how we will manage these districts for the next 15 years.

ADDRESSES: Copies of the Final CCP and FONSI are available on compact disk or hard copy. You may obtain a copy by writing to: U.S. Fish and Wildlife Service, Division of Conservation Planning, Bishop Henry Whipple Federal Building, 1 Federal Drive, Fort Snelling, MN 55111, or you may view or download a copy of the documents at http://www.fws.gov/midwest/planning/leopold and http://www.fws.gov/midwest/planning/stcroix.

FOR FURTHER INFORMATION CONTACT: Tom Kerr, St. Croix WMD (715-246-7784), or Steve Lenz, Leopold WMD (608-742-7100).

SUPPLEMENTARY INFORMATION:

Introduction

With this notice, we complete the CCP process for Leopold and St. Croix WMDs, which we started in 71 FR 20722 (April 21, 2006). For more about the initiation process, see that notice. We released the draft CCPs and environmental assessments to the public, announcing and requesting comments in a notice of availability in the Federal Register (73 FR 43468, July 25, 2008).

Leopold and St. Croix WMDs are located in Wisconsin. Established in 1993, the Leopold WMD manages 53 waterfowl production areas (WPAs) totaling more than 12,000 acres in 17 southeastern Wisconsin counties. The District also administers 48 conservation easements within an eastern Wisconsin area of 34 counties. The St. Croix WMD, also established in 1993, manages 41 WPAs totaling 7,500 acres within an 8-county District of west-central Wisconsin. The District also administers 14 conservation easements. WPAs consist of wetland habitat surrounded by grassland and woodland communities. While WPAs are managed primarily for ducks and geese, they also provide habitat for a variety of other wildlife such as grassland birds, shorebirds, wading birds, mink, muskrat, wild turkey, and deer.

Background

The CCP Process

The National Wildlife Refuge System Administration Act of 1966, as amended by the National Wildlife Refuge System Improvement Act of 1997 (16 U.S.C. 668dd-668ee), requires us to develop a comprehensive conservation plan for each national wildlife refuge and wetland management district. The purpose in developing a CCP is to provide managers with a 15-year strategy for achieving district purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation.

CCP Alternatives

Our draft CCP and NEPA document (73 FR 43468, July 25, 2008) addressed several priority issues raised by us and others. To address these priority issues, we developed and evaluated 4 alternatives during the planning process.

Alternative 1, Waterfowl Emphasis—Current Management Direction

Under Alternative 1, the activities of the District would continue as in the past with current staffing and resources. The target for each District would be to restore 150 acres of grassland per year. The 15-year target for wetland restoration would be 50 percent of the drained wetlands for Leopold WMD and 75 percent for St. Croix WMD. Up to 20 percent of the woodlands and oak savannah would be inventoried, with the objective of restoring approximately 25 percent of the identified potential savannah. Invasive species would be inventoried and treated, with the recognition that only a small portion of the affected acres would be dealt with. Land acquisition would continue as funds were available, with the intent of establishing larger complexes of wetlands and grasslands. An objective would be to raise the quality of the visitor services programs over time, reaching a higher level of rating within 5 years. Five (Leopold) and two (St. Croix) WPAs would be more fully developed with visitor services facilities. The volunteer and partnership programs would continue at 2008 levels.

Alternative 2, Waterfowl Emphasis, With Increased Consideration for Other Priority Species and Low/Moderate Consideration for Visitor Services

Under Alternative 2, the types of habitat management activities of the Districts would continue, but with more acres affected. Monitoring of habitat and wildlife would increase over current practice. Visitor services would improve about at the rate and extent of current practice. The target for each District would be to restore 200 acres of grassland per year. The 15-year target for wetland restoration would be 75 percent of the drained wetlands for Leopold WMD and 90 percent for St. Croix WMD. Up to 90 percent of the woodlands and oak savannah would be inventoried, with the objective of restoring approximately 75 percent (Leopold) and 80 percent (St. Croix) of the identified potential savannah. Invasive species would be inventoried on 100 percent of the Districts, with control applied to 25 percent (Leopold) and 50 percent (St. Croix) of District lands. Land acquisition would continue as funds were available, with the intent of establishing larger complexes of wetlands and grasslands. An objective would be to raise the quality of the visitor services programs over time, reaching a higher level of rating within 5 years. Five (Leopold) and two (St. Croix) WPAs would be more fully developed with visitor services facilities. The volunteer and partnership programs would increase. Full implementation of this alternative would require the addition of 1.5 full-time equivalents (Leopold) and 2.5 full-time equivalents (St. Croix) to the current staff.

Alternative 3, Waterfowl Emphasis, With Low Increase in Management for Other Wildlife and Increased Consideration for Visitor Services

Under Alternative 3, the types and amounts of habitat management activities undertaken by the Districts would be similar to those in Alternative 1. Visitor services would expand and improve in quality compared with Alternative 1. Outreach activities would also be greater. An objective would be to raise the quality of the visitor services programs over time, reaching two higher levels of rating within 5 years. Seven (Leopold) and four (St. Croix) WPAs would be more fully developed with visitor services facilities. The volunteer and partnership programs would increase. Full implementation of this alternative would require the addition of 1.5 full-time equivalents (Leopold) and 2.5 full-time equivalents (St. Croix) to the current staff.

Alternative 4, Waterfowl Emphasis, With Increased and Balanced Consideration for Other “Priority” Species, Their Habitats, Visitor Services and Neighborhood Relationships (Preferred Alternative)

Alternative 4 incorporates components of Alternatives 2 and 3. Under this alternative the types of habitat management activities of the District would continue, but with more acres affected. Monitoring of habitat and wildlife would increase compared with the current practice. Visitor services would expand and improve in quality compared with the current practice. Outreach activities would also be greater. The target for each District would be to restore 200 acres of grassland per year. The 15-year target for wetland restoration would be 75 percent of the drained wetlands for Leopold WMD and 90 percent for St. Croix WMD. Up to 90 percent of the woodlands and oak savannah would be inventoried, with the objective of restoring approximately 75 percent (Leopold) and 80 percent (St. Croix) of the identified potential savannah. Invasive species would be inventoried on 100 percent of the Districts with control applied to 25 percent (Leopold) and 50 percent (St. Croix) of District lands. The Districts would develop a monitoring program to determine waterfowl recruitment. Land acquisition would continue as funds were available, with the intent of establishing larger complexes of wetlands and grasslands. Seven (Leopold) and four (St. Croix) WPAs would be more fully developed with visitor services facilities. The volunteer and partnership programs would increase. Full implementation of this alternative would require the addition of 3.5 full-time equivalents (Leopold) and 3.5 full-time equivalents (St. Croix) to the current staff.

Comments

We solicited comments on the draft CCP and environmental assessment for Leopold and St. Croix WMDs from July 25, 2008 to August 25, 2008. We held an open house in New Richmond, Wisconsin on August 12, 2008 and in Portage, Wisconsin on August 13, 2008, to receive comments. We received 3 written comments during the comment period. We responded to all substantive comments in an appendix to the CCPs.

Our Preferred Alternative

After considering the comments we received, we have chosen Alternative 4 as our preferred alternative. Management of the Districts for the next 15 years will focus on: (1) Continuing current habitat management activities, but on a greater acreage; (2) increased monitoring of habitat and wildlife; and (3) expanding and improving the quality of visitor services.

Dated: December 14, 2008.
Charles M. Wooley,
Acting Regional Director, U.S. Fish and Wildlife Service, Fort Snelling, Minnesota.

[FR Doc. E9-2173 Filed 1-30-09; 8:45 am]

BILLING CODE 4310-55-P